DEPARTMENT OF JUSTICE

Antitrust Division

Notice Pursuant to the National Cooperative Research and Production Act of 1993—Development of High Toughness, Low Viscosity Resin for Reinforcing Pothole Patching Materials, TIP Award No. 7ONANB1OHO19

Notice is hereby given that, on May 20, 2010, pursuant to Section 6(a) of the National Cooperative Research and Production Act of 1993, 15 U.S.C. 4301 et seq. (“the Act”), Development of High Toughness, Low Viscosity Resin for Reinforcing Pothole Patching Materials, TIP Award No. 7ONANB1OHO19 (“Resin for Reinforcing”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Materia, Inc, Pasadena, CA; The University of California Los Angeles, Los Angeles, CA; The City of Los Angeles, Los Angeles, CA; and Department of Public Works, Bureau of Street Services, Los Angeles, CA. The general area of Resin for Reinforcing's planned activity is to repair but also reduce the traffic congestion and driver time delay.

The activities of this venture project will be partially funded by an award from the Technology Innovation Program, National Institute of Standards and Technology, U.S. Department of Commerce.

Patricia A. Brink,
Deputy Director of Operations, Antitrust Division.

[FR Doc. 2010-16860 Filed 7-13-10; 8:45 am]

BILLING CODE 4410-11-M